DEPARTMENT OF COMMERCE

National Oceanic and Atmospheric Administration

[RIN 0648-XD327]

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Summer Flounder, Scup, and Black Sea Bass Advisory Panel (AP) will hold a public meeting.

DATES: The meeting will be held on Tuesday, July 1, 2014, from 10 a.m. to 5 p.m.

ADDRESSES: The meeting will be held at the Double Tree by Hilton Baltimore—BWI Airport, 890 Elkridge Landing Road, Linthicum, MD 21090; telephone: (410)-859-8400.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The MAFMC's Summer Flounder, Scup, and Black Sea Bass Advisory Panel will meet jointly with the Atlantic States Marine Fisheries Commission's Summer Flounder, Scup, and Black Sea Bass Advisory Panels. This meeting has two primary purposes, as described below:

1. The AP will review fishery performance and create AP Fishery Performance Reports for Summer Flounder, Scup, and Black Sea Bass. Specifications for the 2015 fishing year, including catch and landings limits and commercial management measures, have already been implemented as part of previously set multi-year specifications. Specifications for 2015 will be reviewed by the MAFMC and Atlantic States Marine Fisheries Commission (ASFMC) to determine whether any changes are warranted. The Advisory Panel's Fishery Performance Reports for each species will be provided to the MAFMC and the ASMFC prior to their review of 2015 specifications.

2. The AP will be asked to provide input on the range of issues to be considered in a recently-initiated amendment to the MAFMC's Summer Flounder, Scup, and Black Sea Bass Fishery Management Plan. This amendment will relate to summer flounder management goals and strategies. More information can be found at: http://www.mafmc.org/actions/summer-flounder-amendment/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the MAFMC's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: June 10, 2014.
William D. Chappell,
Acting Deputy Director, Office of Sustainable Fisheries, National Marine Fisheries Service.

[FR Doc. 2014-13844 Filed 6-12-14; 8:45 am]

BILLING CODE 3510-22-P